DEPARTMENT OF ENERGY

Federal Energy Regulatory Commission

[Docket No. RP00-506-006]

Northwest Pipeline Corporation; Notice of Compliance Filing

June 1, 2001.

Take notice that on May 25, 2001, Northwest Pipeline Corporation (Northwest) submitted supplemental information related to its proposed policy on partial capacity turnbacks.

Northwest states that the purpose of this filing is to comply with the Commission's Order on Compliance Filing dated April 25, 2001 in Docket Nos. RP00-506-003 and RP00-506-004.

Northwest states that a copy of this filing has been served upon each person designated on the official service list compiled by the Secretary in this proceeding.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-14343 Filed 6-6-01; 8:45 am]

BILLING CODE 6717-01-M